FEDERAL COMMUNICATIONS COMMISSION

47 CFR Part 25

[IB Docket No. 21-456; FCC 24-117; FR ID 273430]

Spectrum Sharing Rules for NGSO Fixed-Satellite Service Systems; Correction

AGENCY: Federal Communications Commission.

ACTION: Correcting amendments.

SUMMARY: The Federal Communications Commission (Commission) is correcting a final rule that appeared in the Federal Register on December 13, 2024. The final rule clarified the methodology to be used in compatibility analyses submitted by non-geostationary satellite orbit (NGSO) fixed-satellite service (FSS) system grantees.

DATES: Effective January 22, 2025, except for the amendment to § 25.261 in amendatory instruction 3, which is delayed indefinitely. The Commission will publish a document in the Federal Register announcing the effective date of § 25.261 in instruction 3.

FOR FURTHER INFORMATION CONTACT: Clay DeCell, 202-418-0803.

SUPPLEMENTARY INFORMATION: On December 13, 2024, the Commission published a final rule amending paragraphs (d) and (e) of § 25.261 and announcing an effective date of those amendments of January 13, 2025. However, the amendment to paragraph (d) of § 25.261 requires approval of the Office of Management and Budget under the Paperwork Reduction Act before it can become effective, as stated elsewhere in the final rule. In addition, the amendment to paragraph (e) of § 25.261 adds a cross-reference to paragraph (d) of that section, which is not yet effective. To correct this effective date error, this document reverts the text of paragraphs (d) and (e) of § 25.261 and adds a delayed instruction to re-insert the rule amendments adopted in the final rule after the Commission announces OMB approval and the effective date of the amendments to paragraphs (d) and (e) of § 25.261.

List of Subjects in 47 CFR Part 25

Satellites.

Accordingly, 47 CFR part 25 is corrected by making the following correcting amendments:

PART 25—SATELLITE COMMUNICATIONS

1. The authority citation for part 25 continues to read as follows:

Authority: 47 U.S.C. 154, 301, 302, 303, 307, 309, 310, 319, 332, 605, and 721, unless otherwise noted.

2. Amend § 25.261 by removing and reserving paragraph (d) and revising paragraph (e).

The revision reads as follows:

§ 25.261 Sharing among NGSO FSS space stations.

* * * * *

(e) Sunsetting. Ten years after the first authorization or grant of market access in a processing round, the systems approved in that processing round will no longer be required to protect earlier-rounds systems, and instead will be required to share spectrum with earlier-round systems under paragraph (c) of this section.

3. Delayed indefinitely, further amend § 25.261 by adding paragraph (d) and revising paragraph (e) to read as follows:

§ 25.261 Sharing among NGSO FSS space stations.

* * * * *

(d) Protection of earlier-round systems. Prior to commencing operations, an NGSO FSS licensee or market access recipient must either certify that it has completed a coordination agreement with any operational NGSO FSS system licensed or granted U.S. market access in an earlier processing round, or submit for Commission approval a compatibility showing which demonstrates by use of a degraded throughput methodology that it will not cause harmful interference to any such system with which coordination has not been completed. If an earlier-round system becomes operational after a later-round system has commenced operations, the later-round licensee or market access recipient must submit a certification of coordination or a compatibility showing with respect to the earlier-round system no later than 60 days after the earlier-round system commences operations as notified pursuant to § 25.121(b) or otherwise.

(1) Compatibility showings must contain the following elements:

(i) A demonstration that the later-round system will cause no more than 3 percent time-weighted average degraded throughput of the link to the earlier-round system, for links with a baseline link availability of 99.0 percent or higher at a C/N threshold of 0 dB;

(ii) A demonstration that the later-round system will cause no more than 0.4 percent absolute change in link availability to the earlier-round system using a C/N threshold value of 0 dB, for links with a baseline link availability of 99.0 percent link availability or higher; and

(iii) With respect to an earlier-round system that has not yet satisfied its 50 percent deployment milestone pursuant to § 25.164(b)(1), the compatibility showing may consider only 50 percent deployment of the earlier-round system; if the 50 percent deployment milestone has been satisfied, the showing must consider 100 percent deployment of the authorized system.

(2) Compatibility showings will be placed on public notice pursuant to § 25.151(a)(13).

(3) While a compatibility showing remains pending before the Commission, the submitting NGSO FSS licensee or market access recipient may commence operations on an unprotected, non-interference basis with respect to the operations of the system that is the subject of the showing.

(4) A later-round NGSO FSS system will be required to conform its operations to its compatibility showing submitted for the protection of an earlier-round system to the extent necessary to protect the actual number of deployed and operating space stations of the earlier-round system.

(e) Sunsetting. Ten years after the first authorization or grant of market access in a processing round, the systems approved in that processing round will no longer be required to protect earlier-

rounds systems under paragraph (d) of this section, and instead will be required to share spectrum with earlier-round systems under paragraph (c) of this section.

Federal Communications Commission.
Marlene Dortch,
Secretary.

[FR Doc. 2025-01115 Filed 1-21-25; 8:45 am]

BILLING CODE 6712-01-P